NUCLEAR REGULATORY COMMISSION

10 CFR Parts 2, 30, 40, 50, 52, 63, 70, 72, 73, 76, and 150

RIN 3150-AH57

Protection of Safeguards Information

AGENCY: Nuclear Regulatory Commission.

ACTION: Availability of draft proposed rule.

SUMMARY: The Nuclear Regulatory Commission (NRC) is making available draft proposed rule language for amendments to 10 CFR part 73, “Physical Protection of Plants and Materials,” to provide for further protection of Safeguards Information (SGI). The draft proposed rule also contains draft conforming changes to 10 CFR parts 2, 30, 40, 50, 52, 63, 70, 72, 76, and 150. The NRC is proposing to amend its regulations in part 73 for the protection of SGI to be consistent with recent Commission practices reflected in Orders and Threat Advisories issued since September 11, 2001, and to provide the flexibility afforded the Commission for the protection of such information by the Atomic Energy Act of 1954, as amended (AEA). The proposed amendments would affect licensees, information, and materials not currently specified in the regulations, but are within the scope of the AEA. The proposed amendments are intended to protect SGI from inadvertent release and unauthorized disclosure which might compromise the security of nuclear facilities and materials. The availability of the draft rule language is intended to inform stakeholders of the current status of the NRC's activities, but the NRC is not soliciting formal public comments on the information at this time.

DATES: There will be an opportunity for public comment when the notice of proposed rulemaking is published in the Federal Register.

ADDRESSES: The draft rule language can be viewed and downloaded electronically via the NRC's rulemaking Web site at http://ruleforum.llnl.gov. Along with any publicly available documents related to this rulemaking, the draft information may be viewed electronically on public computers in the NRC Public Document Room (PDR), located at One White Flint North, 11555 Rockville Pike, Rockville, MD 20852, Room O-1 F21, and open to the public on Federal workdays from 7:45 a.m. until 4:15 p.m. The PDR reproduction contractor will make copies of documents for a fee.

FOR FURTHER INFORMATION CONTACT: Marjorie Rothschild, Division of Rulemaking & Fuel Cycle, Office of General Counsel, U.S. Nuclear Regulatory Commission, Rockville, MD 20555-001, telephone: (301) 415-1633, e-mail mur@nrc.gov. or Bernard Stapleton, Office of Nuclear Security and Incident Response, U.S. Nuclear Regulatory Commission, Washington, DC 20555-001, telephone (301) 415-2432, e-mail BWS2@nrc.gov.

SUPPLEMENTARY INFORMATION: In a staff requirements memorandum of June 18, 2004, the Commission directed the Office of the General Counsel (OGC) to expedite rulemaking to develop, in consultation with the NRC staff, amendments to modify 10 CFR part 73 regarding protection of Safeguards Information. The SRM further directed that the amendments are to utilize the flexibility of section 147 of the Atomic Energy Act and are to be consistent with the practices of the Commission in various Orders and Advisories issued since September 11, 2001. The proposed amendments would affect licensees, information, and materials not currently specified in the regulations, but are within the scope of the AEA. The proposed amendments are intended to protect SGI from inadvertent release and unauthorized disclosure which might compromise the security of nuclear facilities and materials.

The NRC is making a preliminary version of the draft proposed rule language available to inform stakeholders of the current status of this 10 CFR part 73 proposed rulemaking. This draft rule language may be subject to significant revisions during the rulemaking process. To meet the Commission's schedule, the NRC is not soliciting early public comments on this draft rule language. No stakeholder requests for a comment period will be granted at this stage in the rulemaking process. Stakeholders will have an opportunity to comment on the rule language when it is published as a proposed rule.

The NRC's draft proposed rule, including early draft rule language, will be posted on the NRC's rulemaking Web site at http://ruleforum.llnl.gov. The NRC may post updates to the draft proposed rule language on the rulemaking Web site.

Dated at Rockville, Maryland, this 9th day of November, 2004.
For the Nuclear Regulatory Commission.
E. Neil Jensen,
Acting Assistant General Counsel, Division of Rulemaking & Fuel Cycle, Office of the General Counsel.

[FR Doc. 04-25359 Filed 11-15-04; 8:45 am]

BILLING CODE 7590-01-P